FEDERAL COMMUNICATIONS COMMISSION

47 CFR Part 73

[DA 00-1573; MM Docket No. 99-222; RM-9602 and RM-9789]

Radio Broadcasting Services; Fountain Green and Levan, UT

AGENCY: Federal Communications Commission.

ACTION: Final rule.

SUMMARY: This document allots Channel 260A at Fountain Green, Utah, in response to a petition filed by Mountain West Broadcasting. See 64 FR 34750, June 29, 1999. The coordinates for Channel 260A at Fountain Green are 39-37-42 and 111-38-24. In response to a counterproposal filed by Micro Communications, Inc. we will substitute Channel 244C1 for Channel 256A at Levan, Utah, and modify the construction permit for Station KBLN to specify operation on Channel 244C1. The coordinates for Channel 244C1 at Levan are 39-33-32 and 111-46-55. A filing window for Channel 260A at Fountain Green will not be opened at this time. Instead, the issue of opening a filing window for this channel will be addressed by the Commission in a subsequent order.

DATES: Effective August 28, 2000.

ADDRESSES: Federal Communications Commission, Washington, D.C. 20554.

FOR FURTHER INFORMATION CONTACT: Kathleen Scheuerle, Mass Media Bureau, (202) 418-2180.

SUPPLEMENTARY INFORMATION: This is a summary of the Commission's Report and Order, MM Docket No. 99-222, adopted July 5, 2000, and released July 14, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Utah, is amended by adding Fountain Green, Channel 260A and by removing Channel 256A and adding Channel 244C1 at Levan.

Federal Communications Commission.
John A. Karousos,
Chief, Allocations Branch, Policy and Rules Division, Mass Media Bureau.

[FR Doc. 00-18759 Filed 7-24-00; 8:45 am]

BILLING CODE 6712-01-P